DEPARTMENT OF COMMERCE

National Oceanic and Atmospheric Administration

[RTID 0648-XC640]

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation (LOCs) for activities conducted under the General Authorization for scientific research on marine mammals. See SUPPLEMENTARY INFORMATION for a list of names and addresses of recipients.

ADDRESSES: The LOCs and related documents are available for review upon written request via email to NMFS.Pr1Comments@noaa.gov.

FOR FURTHER INFORMATION CONTACT: Amy Hapeman (LOC Nos. 21932, 25835, 27241, and 27326), Carrie Hubard (LOC Nos. 22081, 22291-01, 22856-01, 24045, and 25957), Erin Markin, Ph.D. (LOC Nos. 20519-01, 26784, and 27746), Shasta McClenahan, Ph.D. (LOC Nos. 21556 and 27369), Courtney Smith, Ph.D. (LOC Nos. 21134 and 26367), and Sara Young (LOC No. 25895 and 26643) at the email listed above or (301) 427-8401.

SUPPLEMENTARY INFORMATION: The requested LOCs have been issued under the authority of the Marine Mammal Protection Act of 1972, as amended (16 U.S.C. 1361 et seq.), and the regulations governing the taking and importing of marine mammals (50 CFR part 216). The General Authorization allows for bona fide scientific research that may result only in taking by Level B harassment of marine mammals. The following LOCs were issued between October 1, 2021, and December 31, 2023.

File No. 25895: Issued to Jacalyn Toth Sullivan, Stockton University, 101 Vera King Farris Drive, Galloway, New Jersey 08205 on October 29, 2021. This LOC authorizes unmanned aircraft system (UAS) surveys of harbor seals (Phoca vitulina) within Great Bay, New Jersey for count/survey, behavioral observation monitoring, photo-identification, and video purposes. The objectives of the study include determination of temporal patterns of harbor seal habitat use, population size, and shifts therein over time as the nearby wind farm becomes operational. The LOC expires on October 31, 2026.

File No. 20519-01: This LOC, held by Peggy Stap, Marine Life Studies, P.O. Box 884, Monterey, California 93942-0884, was extended on November 18, 2021, through April 30, 2022, while the holder's new application (File No. 25843) was in process. The LOC authorizes close approach of 18 species of cetaceans and 4 species of pinnipeds during vessel and UAS surveys for photo-identification, behavioral observations, passive acoustics, photogrammetry, and underwater photograph/video within the Monterey Bay National Marine Sanctuary. The objectives of the research would not change. The LOC was subsequently terminated on April 22, 2022, when a separate scientific research permit No. 25843 was issued (87 FR 29116, May 12, 2022).

File No. 22856-01: This LOC, held by Patricia Fair, Ph.D., South Carolina Aquarium, 100 Aquarium Wharf, Charleston, South Carolina 29401, was amended on August 30, 2021. The original LOC authorized vessel-based research for photo-identification, photogrammetry, and behavioral observations of bottlenose dolphins (Tursiops truncatus) in waters near Charleston, South Carolina. The amended LOC would allow researchers to use UAS as an additional platform to collect photographs and behavioral data. The objectives of the research would not change. The LOC expires August 31, 2024.

File No. 25835: Issued to Tampa Bay Watch, Inc. (Principal Investigator [PI]: Savannah Gandee), 3000 Pinellas Bayway South, Tierra Verde, Florida 33715, on December 21, 2021. This LOC authorized authorize vessel-based surveys of bottlenose dolphins in the upper-middle regions of Tampa Bay, Florida, for behavioral observations, photo-identification, passive acoustic recordings, and photography/videography. The objectives of the study were to assess current life history parameters of the population, including abundance, social structure, and spatial distribution of the animals. The LOC was subsequently terminated on January 3, 2024, at the request of the PI due to the end of research efforts.

File No. 21134: This LOC, held by John Schacke, Ph.D., Georgia Ecology Dolphin Project, 223 Trace Lane, Commerce, Georgia 30530, was extended on January 14, 2022, until May 15, 2023. The LOC authorizes vessel-based research of bottlenose dolphins, including abundance surveys, behavioral observations, photography and video within coastal and estuarine waters of central Georgia. The objectives of the research would not change. The LOC was subsequently terminated on May 2, 2022, when a new LOC (No. 27241, see below) was issued.

File No. 26367: Issued to Shannon Gowans, Ph.D., Eckerd College, 4200 54th Avenue South, St. Petersburg, Florida 33711 on May 10, 2022. This LOC authorizes close approach, photo-identification, passive acoustic recordings, and behavioral observations of bottlenose dolphins, Atlantic spotted dolphins (Stenella frontalis), and rough-toothed dolphins (Steno bredanensis) during vessel surveys in Boca Ciega Bay and surrounding waters. The objectives of the study are to continue assessing population size, distribution, and changes to social structure of local bottlenose dolphins. The LOC expires on May 15, 2027.

File No. 25957: Issued to Ann Weaver, Ph.D., Good-Natured Statistics Consulting, P.O. Box 8732, St. Petersburg, Florida 33738 on May 11, 2022. This LOC authorizes close approach, photo-identification, and behavioral observations of bottlenose dolphins during vessel surveys in the John's Pass area, near St. Petersburg, Florida. The objectives of the study are to continue monitoring the abundance, distribution, birth rates, and behavior of bottlenose dolphins in the study area and identify changes, if any, related to coastal construction projects. The LOC expires on May 31, 2027.

File No. 26643: Issued to Kachemak Bay National Estuarine Research Reserve (PI: Deborah Boege Tobin, Ph.D.), University of Alaska Anchorage, 2181 Kachemak Drive, Homer, Alaska 99603 on October 15, 2022. This LOC authorizes vessel and aerial-based surveys to monitor harbor porpoise (Phocoena phocoena), assess site fidelity and habitat use, study foraging and social behavior, and compile a photo-identification catalog to track individuals in Kachemak Bay, Alaska. Dall's porpoise (Phocoenoides dalli), Eastern North Pacific gray whales (Eschrichtius robustus), killer whales (Orcinus orca; excluding the endangered Southern Resident Distinct Population Segment), minke whales (Balaenoptera acutorostrata), and harbor seals may also be encountered. The LOC expires on October 14, 2027.

File No. 26784: Issued to Gerard Pinto, Ph.D., Jacksonville University, Marine Science Research Institute, 2800 University Blvd. North, Jacksonville, Florida 32211 on October 19, 2022. This LOC authorizes vessel-based research surveys for close approach, photo-identification, behavioral observations, videography, passive acoustic recordings, and focal follows of bottlenose dolphins within the St. Johns River between Hart Bridge in Jacksonville and Shands Bridge in Green Cove Springs, Florida. The objective of the research is to continue a 10-year collaborative photo-identification study of the bottlenose dolphins in the St. Johns River in northeast Florida, focused on identifying individuals as well as dolphin biology, ecology, behavior, social structure, and health. The LOC expires on October 31, 2027.

File No. 21932: This LOC, held by Jessica Taylor, Outer Banks Center for Dolphin Research, 310 West Eden St., Kill Devil Hills, North Carolina 27948, was extended on January 13, 2023. This amended LOC authorizes vessel surveys, close approach, photo-identification, behavioral observations, and focal follows of bottlenose dolphins in the waters of northern North Carolina. The amended LOC expires on April 30, 2024.

File No. 21556: This LOC, held by Stephen McCulloch, Dolphins Plus Marine Mammal Responder, 31 Corrine Place, Key Largo, Florida 33037, was extended on April 26, 2023, until May 15, 2024. This LOC authorized vessel surveys, close approach, photo-identification, behavioral observations, and video recording of bottlenose dolphins in Southern Florida waters. This amendment extended the duration of the LOC until August 14, 2023. The LOC was subsequently terminated on August 14, 2023, when a new LOC (No. 27269, see below) was issued.

File No. 27241: Issued to John Schacke, Ph.D., Georgia Dolphin Ecology Project, 223 Trace Lane, Commerce, Georgia 30530, on May 2, 2023. This LOC authorizes research on bottlenose dolphins involving close approach during vessel surveys for count/survey, observations, photograph/video, and photo-identification within coastal and estuarine waters of central Georgia. The objective of the research is to describe basic population dynamics of the common bottlenose dolphin populations in the Central Georgia Estuarine Stock System. This includes evaluation of their abundance, distribution, residency, habitat utilization, and stock structure. The LOC expires on May 15, 2028.

File No. 27326: Issued to Nicole Mader, Dolphin Ecology Project, 106 Abbie Court, Stuart, Florida 34996, on June 12, 2023. This LOC authorizes research on bottlenose dolphins involving close approach during vessel surveys for counts, observations, monitoring, passive acoustic recordings, photography/videography, photo-identification, and focal follows within the St. Lucie River, Indian River Lagoon from the Stuart Causeway to Jupiter Inlet, and adjacent Atlantic coastal waters. The objectives of the research are to (1) identify dolphin seasonal residency or transient patterns on a small temporal scale, (2) monitor reproductive success and calf survival, (3) evaluate habitat use and behavior, and (4) document ranging patterns of dolphins into the nearshore coastal Atlantic Ocean of the Indian River Lagoon Estuarine System stock. The LOC expires on June 30, 2028.

File No. 27369: Issued to Stephen McCulloch, President, Protect Wild Dolphins Alliance, Inc., 307 Saint Thomas Avenue, Key Largo, Florida 33037, on August 14, 2023. This LOC authorizes research to estimate abundance, determine distribution patterns, assess habitat use, and evaluate site fidelity of bottlenose dolphins inhabiting the Upper Florida Keys. Authorized activities include close approach by vessel, for counts, photography, photo-identification, video recordings, behavioral observations, and underwater photography/videography by pole camera. The LOC expires on August 31, 2028.

File No. 22081: This LOC, held by Institute for Marine Mammal Studies (PI: Mobashir Solangi, Ph.D.), P.O. Box 207, Gulfport, Mississippi 39502, was extended on September 25, 2023. The LOC authorizes vessel and aerial surveys using photo-identification, behavioral observations, photography, filming, and passive acoustic recordings to study bottlenose dolphins and other cetaceans, including Atlantic spotted, pantropical spotted (Stenella attenuata), and spinner (Stenella longirostris) dolphins, and pygmy sperm whales (Kogia breviceps) in select Mississippi and Louisiana waters. The extended LOC expires on December 1, 2024.

File No. 22291-01. Amended LOC issued to Barbara Brunnick, Ph.D., Palm Beach Dolphin Project, Taras Oceanographic Foundation, 5905 Stonewood Court, Jupiter, Florida 33468, on September 26, 2023. The LOC authorized vessel-based research for photo-identification, videography, and behavioral observations of bottlenose dolphins, Atlantic spotted dolphins, and ten other cetacean species in the nearshore and coastal waters of Palm Beach and Martin Counties, Florida. The amended LOC allows researchers to use unmanned aircraft systems as an additional platform to collect photographs, photogrammetry, and behavioral data. The LOC expires on June 30, 2025.

File No. 24045: This LOC, held by Jeremy Kiszka, Ph.D., Florida International University, 3000 NE 151st Street, Marine Science Building, Room 250D, North Miami, Florida 33181, was extended on January 30, 2024. The LOC authorizes vessel-based surveys for photo-identification, photography, videography, and behavioral observations of bottlenose and Atlantic spotted dolphins. Research may occur in Biscayne Bay and coastal waters of Broward and Miami Dade counties, Florida out to 200 m depth. The objectives of the research would not change. The extended LOC expires on February 10, 2025.

File No. 27746: Issued to Barbara Clark, Outer Banks Center for Dolphin Research, P.O. Box 7721, Kill Devil Hills, North Carolina 27948, on December 22, 2023. This LOC authorizes vessel surveys for close approach, photo-identification, and behavioral observations of bottlenose dolphins to monitor the presence, identity, ecology, and behavior of bottlenose dolphins within the sounds of North Carolina, including Roanoke Sound. The LOC expires on December 31, 2028.

In compliance with the National Environmental Policy Act of 1969 (42 U.S.C. 4321 et seq.), a final determination has been made that the activities are categorically excluded from the requirement to prepare an environmental assessment or environmental impact statement.

Dated: April 29, 2024.
Julia M. Harrison,
Chief, Permits and Conservation Division, Office of Protected Resources, National Marine Fisheries Service.

[FR Doc. 2024-09531 Filed 5-1-24; 8:45 am]

BILLING CODE 3510-22-P